DEPARTMENT OF HEALTH AND HUMAN SERVICES

Centers for Disease Control and Prevention

[30Day-07-0696]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

HIV Prevention Program Evaluation and Monitoring System for Health Departments and Community-Based Organizations (PEMS)—Reinstatement (0920-0696)—National Center for HIV, STD, and TB Prevention (NCHSTP), Centers for Disease Control and Prevention (CDC).

Background and Brief Description

This is an extension of a data collection that is being incrementally implemented. The initial PEMS OMB request was approved October 6, 2005 for one year. However, delays in the development of the data collection software and requests by grantees for additional time to modify their data collection procedures have prevented the initial data collection originally anticipated for 2006.

The purpose of this data collection is to collect HIV prevention evaluation data from health department and community-based organization (CBO) grantees using the electronic Program Evaluation and Monitoring System (PEMS). This data collection incorporates data elements from two previously approved data collections: Evaluating CDC Funded Health Department HIV Prevention Programs, OMB No. 0920-0497 (discontinued 4/31/2006); and Assessing the Effectiveness of CBOs for the Delivery of HIV Prevention Programs, OMB No. 0920-0525 (discontinued 12/17/2004).

Per HIV prevention cooperative agreements, CDC requires non-identifying, client-level, standardized evaluation data from health department and CBO grantees to: (1) More accurately determine the extent to which HIV prevention efforts have been carried out, what types of agencies are providing services, what resources are allocated to those services, to whom services are being provided, and how these efforts have contributed to a reduction in HIV transmission; (2) improve ease of reporting to better meet these data needs; and (3) be accountable to stakeholders by informing them of efforts made and use of funds in HIV prevention nationwide.

Although CDC receives evaluation data from grantees, the data received to date are insufficient for evaluation and accountability. Furthermore, there has not been standardization of required evaluation data from both health departments and CBOs. Changes to the evaluation and reporting process have become necessary to ensure CDC receives standardized, accurate, thorough evaluation data from both health department and CBO grantees. For these reasons, CDC developed PEMS and consulted with representatives from health departments, CBOs, and national partners (e.g., The National Alliance of State and Territorial AIDS Directors, Urban Coalition of HIV/AIDS Prevention Services, and National Minority AIDS Council).

Respondents will collect, enter, and report general agency information, program model and budget data, and client demographics and behavioral characteristics. (After initial set-up of the PEMS, data collection will include searching existing data sources, gathering and maintaining data, document compilation, review of data, and data entry into the web-based system.) Agents will submit data quarterly. There are no costs to respondents. The total estimated annual burden hours are 181,512.

Estimate Of Annualized Burden Hours
Respondents | Number of respondents | Form name | Number of responses per respondent | Average burden per response (in hours)
Health jurisdictions | 59 | PEMS Data Variables and Values (HD) | 4 | 137
Health jurisdictions (CTR-scan) | 30 | Counseling, Testing and Referral Form | 4 | 509
Health jurisdictions (CTR non-scan) | 30 | PEMS Data Variables and Values (HD) | 4 | 165
Health jurisdictions (Training) | 59 | PEMS Data Variables and Values (HD) | 4 | 10
Community-Based Organizations | 160 | PEMS Data Variables and Values (CBO) | 4 | 84
Community-Based Organizations (CTR) | 70 | Counseling, Testing and Referral Form | 4 | 23
Community-Based Organizations (Training) | 160 | PEMS Data Variables and Values (CBO) | 4 | 10

Dated: May 15, 2007.
Maryam Daneshvar,
Acting Reports Clearance Officer, Centers for Disease Control and Prevention.

[FR Doc. E7-9795 Filed 5-21-07; 8:45 am]

BILLING CODE 4163-18-P